INTERNATIONAL TRADE COMMISSION

[Investigation No. 332-587]

Distributional Effects of Trade and Trade Policy on U.S. Workers

AGENCY: United States International Trade Commission.

ACTION: Notice of investigation.

SUMMARY: Following receipt on October 14, 2021 of a request from the U.S. Trade Representative (USTR), under section 332(g) of the Tariff Act of 1930, the U.S. International Trade Commission (Commission) instituted Investigation No. 332-587, Distributional Effects of Trade and Trade Policy on U.S. Workers, for the purpose of conducting a two-part investigation, with the Commission in part one to provide a public report that catalogues information on the distributional effects on under-represented and under-served communities of trade and trade policy, and with the Commission in part two to expand its research and analysis capabilities so that future probable economic effects advice includes estimates of the potential distributional effects of trade and trade policy, including goods and services imports, on U.S. workers. In preparing its public report, the USTR asked the Commission to gather information through roundtable discussions among representatives of under-represented and under-served communities, and through a symposium focused on academic or similar research on the distributional effects on under-represented and under-served communities of trade and trade policy. The Commission will also hold a public hearing following the roundtables and symposium. The Commission will issue a second notice, to be published in the Federal Register by January 31, 2022 that sets out the format and dates for the roundtables, symposium, and hearing, and how members of the public may participate in them.

DATES:

TBD: Roundtable discussions (notification by separate FRN by January 31, 2022).

TBD: Symposium (notification by separate FRN by January 31, 2022).

TBD: Public Hearing (notification by separate FRN by January 31, 2022).

October 14, 2022: Transmittal of Commission report to USTR.

ADDRESSES: All Commission offices are in the U.S. International Trade Commission Building, 500 E Street SW, Washington, DC. Due to the COVID 19 pandemic, the Commission's building is currently closed to the public. Once the building reopens, persons with mobility impairments who will need special assistance in gaining access to the Commission should contact the Office of the Secretary at 202-205-2000.

FOR FURTHER INFORMATION CONTACT: Co-Project Leader Jennifer Powell (202-205-3450 or jennifer.powell@usitc.gov), Co-Project Leader Stephanie Fortune-Taylor (202-205-2749 or stephanie.fortune-taylor@usitc.gov), or Deputy Project Leader Sarah Scott (202-708-1397 or sarah.scott@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

The public record for this investigation may be viewed on the Commission's electronic docket (EDIS) at https://edis.usitc.gov. General information concerning the Commission may be obtained by accessing its internet address (https://www.usitc.gov).

SUPPLEMENTARY INFORMATION: Background: As requested in the letter received from the U.S. Trade Representative (USTR) on October 14, 2021, the Commission will conduct the investigation in two parts concurrently.

More specifically, the USTR asked the Commission in part one of the investigation to catalogue in a public report information on the distributional effects on under-represented and under-served communities of trade and trade policy. Information for part one will be gathered through (1) roundtable discussions among representatives of under-represented and under-served communities that have been identified in the Executive Order On Advancing Racial Equity and Support for Underserved Communities Through the Federal Government (E.O. 13985, January 20, 2021), as well as think tanks, academics and researchers, unions, State and local governments, non-Federal governmental entities, civil society experts, community-based stakeholders, such as minority-owned businesses, business incubators, Historically Black Colleges and Universities (HBCUs), Hispanic Serving Institutions (HSIs), Tribal Colleges and Universities (TCUs), other minority serving institutions (MSIs), and local and national civil rights organizations; (2) a symposium focused on academic or similar research on the distributional effects on under-represented and under-served communities of trade and trade policy, including results of existing analysis, evaluation of methodologies, the use of public and restricted data in current analysis, identifying gaps in data and/or in the economic literature, and proposed analysis that could be done with restricted data; and (3) a critical review of the economic literature on the distributional effects on under-represented and under-served communities of trade and trade policy including, among other things, the data limitations raised in these analyses. Information regarding the date and format of the roundtables and symposium will be specified in a future notice.

The Commission will publish a notice in the Federal Register by January 31, 2022 of the time, place, and procedures to be followed in holding a public hearing, roundtable discussions, and a symposium. As requested by the USTR, the Commission will deliver the report requested on part one of the investigation on October 14, 2022. Since the USTR has indicated that she intends to make this report available to the public in its entirety, the Commission will not include confidential business or national security classified information in its report.

In part two of the investigation, internally the Commission will further develop models that can analyze the potential distributional effects of trade and trade policy, including with respect to goods and services imports, on U.S. workers. The Commission will also seek to identify any data limitations that, if removed, could substantially speed the time to complete the analysis or allow for improved analysis. The USTR asked that the Commission brief USTR staff on its efforts in this regard. The Commission will not prepare or publish a report in connection with part two.

By order of the Commission.
Issued: November 24, 2021.
Lisa Barton,
Secretary to the Commission.

[FR Doc. 2021-26060 Filed 11-29-21; 8:45 am]

BILLING CODE 7020-02-P